DEPARTMENT OF HEALTH AND HUMAN SERVICES

Administration for Children and Families

Statement of Organization, Functions, and Delegations of Authority

AGENCY: Administration for Children and Families, HHS.

ACTION: Notice.

SUMMARY: Statement of Organization, Functions, and Delegations of Authority. The Administration for Children and Families (ACF) has reorganized the Office of the Assistant Secretary (OAS) and the Office of Public Affairs (OPA). This reorganization transfers the Freedom of Information Act (FOIA) function from the Office of the Assistant Secretary (OAS) to the Office of Public Affairs (OPA).

FOR FURTHER INFORMATION CONTACT: Marrianne McMullen, Director, Office of Public Affairs, 370 L'Enfant Promenade SW., Washington, DC 20447, 202-401-9216.

This notice amends Part K of the Statement of Organization, Functions, and Delegations of Authority of the Department of Health and Human Services (HHS), Administration for Children and Families (ACF) as follows: Chapter KA, Office of the Assistant Secretary (OAS) last amended, 76 FR 72418-72420, November 23, 2011, and Chapter KN, Office of Public Affairs (OPA) last amended, 72 FR 31072-31073, June 5, 2007. The changes are as follows:

I. Under Chapter KA, Office of the Assistant Secretary, delete KA.00 Mission in its entirety and replace with the following:

KA.00 MISSION. The Office of the Assistant Secretary for Children and Families (OAS) provides executive direction, leadership, and guidance for all ACF programs. OAS provides national leadership to develop and coordinate public and private initiatives for carrying out programs that promote permanency placement planning, family stability, and self-sufficiency. OAS advises the Secretary on issues affecting America's children and families, including Native Americans, refugees, and legalized aliens. OAS provides leadership on human service issues and conducts emergency preparedness and response operations during a nationally declared emergency.

II. Under Chapter KN, Office of Public Affairs, delete KN.00 Mission in its entirety and replace with the following:

KN.00 MISSION. The Office of Public Affairs (OPA) develops, directs and coordinates public affairs and communication services for ACF. It provides leadership, direction and oversight in promoting ACF's public affairs policies, programs and initiatives. OPA handles Freedom of Information Act requests and inquiries and coordinates hotline calls received by the Office of Inspector General and the Government Accountability Office relating to ACF operations and personnel. The Office of Public Affairs also provides printing and distribution services for ACF.

III. Under Chapter KN, Office of Public Affairs, delete KN.20 Paragraph B in its entirety and replace with the following:

B. Division of Public Information develops and implements public affairs strategies to achieve ACF program objectives in coordination with other ACF components. It coordinates news media relations strategy; responds to all media inquiries concerning ACF programs and related issues; develops fact sheets, news releases, feature articles for magazines and other publications on ACF programs and initiatives; and manages preparation and clearance of speeches and official statements on ACF programs. It coordinates regional public affairs policies and public affairs activities pertaining to ACF programs and initiatives. The Office coordinates hotline calls received by the Office of Inspector General and the Government Accountability Office relating to ACF operations and personnel and assists the ACF FOIA Officer in processing FOIA inquiries and requests relating to ACF programs and activities.

Dated: September 21, 2012.
George H. Sheldon,
Acting Assistant Secretary for Children and Families.

[FR Doc. 2012-24587 Filed 10-4-12; 8:45 am]

BILLING CODE P